DEPARTMENT OF COMMERCE

International Trade Administration

[A-570-601]

Tapered Roller Bearings and Parts Thereof, Finished and Unfinished, From the People's Republic of China: Preliminary Results and Partial Rescission of Antidumping Duty Administrative Review; 2020-2021

AGENCY: Enforcement and Compliance, International Trade Administration, Department of Commerce.

SUMMARY: The U.S. Department of Commerce (Commerce) preliminarily determines that Shanghai Tainai Bearing Co., Ltd. (Tainai) has made sales of tapered roller bearings and parts thereof, finished and unfinished, (TRBs) from the People's Republic of China (China) at less than normal value (NV) during the period of review (POR), June 1, 2020, through May 31, 2021. The administrative review covers 11 companies; however, based on timely withdrawal of requests for review, we are now rescinding this administrative review with respect to two of these companies. Additionally, we find that Tainai and Zhejiang Jingli Bearing Technology Co., Ltd. (Jingli) have each demonstrated that they are eligible for a separate rate. Interested parties are invited to comment on these preliminary results.

DATES: Applicable July 8, 2022.

FOR FURTHER INFORMATION CONTACT: Alex Wood, AD/CVD Operations, Office II, Enforcement and Compliance, International Trade Administration, U.S. Department of Commerce, 1401 Constitution Avenue NW, Washington, DC 20230; telephone: (202) 482-1959.

SUPPLEMENTARY INFORMATION:

Background

On August 3, 2021, Commerce published a notice of initiation of an administrative review of the antidumping duty (AD) order on TRBs from China covering the period June 1, 2020, through May 31, 2021, with respect to 11 companies.¹

¹ See Initiation of Antidumping and Countervailing Duty Reviews, 86 FR 41821 (August 3, 2021) (Initiation Notice).

For a complete description of the events that followed the initiation of this administrative review, see the Preliminary Decision Memorandum.² A list of topics discussed in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

² See Memorandum, “Decision Memorandum for the Preliminary Results of the 2020-2021 Antidumping Duty Administrative Review of Tapered Roller Bearings and Parts Thereof, Finished and Unfinished, from the People's Republic of China,” dated concurrently with, and hereby adopted by, this notice (Preliminary Decision Memorandum).

Partial Rescission

Pursuant to 19 CFR 351.213(d)(1), Commerce will rescind an administrative review, in whole or in part, if all parties who requested the review withdraw their requests within 90 days of the date of publication of notice of initiation of the requested review. Changshan Peer Bearing Co., Ltd. (CPZ) and GGB Bearing Technology (Suzhou) Co., Ltd. (GGB) timely withdrew their requests for an administrative review. No other party requested a review of these companies. Accordingly, we are rescinding this review, in part, with respect to CPZ and GGB, pursuant to 19 CFR 351.213(d)(1).

Scope of the Order

Imports covered by the Order are shipments of tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) subheadings 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS subheadings are provided for convenience and customs purposes, the written description of the scope of the Order is dispositive.

Methodology

Commerce is conducting this review in accordance with section 751(a)(1)(B) of the Tariff Act of 1930, as amended (the Act). For a full description of the methodology underlying our preliminary results, see the Preliminary Decision Memorandum.³

³ See Preliminary Decision Memorandum at “Discussion of the Methodology.”

China-Wide Entity

C&U Group Shanghai Bearing Co., Ltd. (C&U Group); Hangzhou C&U Automotive Bearing Co., Ltd. (C&U Automotive); Hangzhou C&U Metallurgy Bearing Co., Ltd. (C&U Metallurgy); Hebei Xintai Bearing Forging Co., Ltd. (Hebei Xintai); Huangshi C&U Bearing Co., Ltd. (Huangshi C&U); Sichuan C&U Bearing Co., Ltd. (Sichuan C&U); and Xinchang Newsun Xintianlong Precision Bearing Manufacturing Co., Ltd. (XTL) did not submit separate rate applications or recertify their eligibility for a separate rate; therefore, each company has failed to establish their eligibility for a separate rate as a result of this administrative review. Commerce preliminarily determines that these companies are not eligible for a separate rate and are a part of the China-wide entity.

Under Commerce's current policy regarding the conditional review of the China-wide entity, the China-wide entity will not be under review unless a party specifically requests, or Commerce self-initiates, a review of the China-wide entity. Because no party requested a review of the China-wide entity in this review, the China-wide entity is not under review, and the weighted-average dumping margin determined for the China-wide entity rate is therefore not subject to change and continues to be 92.84 percent.⁴

⁴ See Tapered Roller Bearings and Parts Thereof, Finished and Unfinished, from the People's Republic of China: Final Results of Antidumping Duty Administrative Review, 74 FR 3987, 3988-89 (January 22, 2009) (TRBs from China 2009).

Rate for Non-Examined Companies That Are Eligible for a Separate Rate

Commerce calculated an individual weighted-average dumping margin for Tainai, the only company individually examined in this administrative review. Because the only individually calculated weighted-average dumping margin is not zero, de minimis, or based entirely on facts otherwise available, the weighted-average dumping margin calculated for Tainai is the basis to determine the weighted-average dumping margin for the separate rate, non-examined companies, consistent with section 735(c)(5)(A) of the Act, which provides for the determination of the estimated weighted-average dumping margin for all other producers and exporters in an investigation.

As indicated in the “Preliminary Results of Review” section below, we preliminarily determine that a weighted-average dumping margin of 36.03 percent applies to Jingli, the only company not selected for individual examination that is eligible for a separate rate. For further information, see the Preliminary Decision Memorandum at “Weighted-Average Dumping Margin for the Separate Rate Companies.”

Preliminary Results of Review

Commerce preliminarily determines that the following weighted-average dumping margins exist for the period June 1, 2020, through May 31, 2021:

Exporter | Weighted-average dumping margin (percent)
Shanghai Tainai Bearing Co., Ltd | 36.03
Zhejiang Jingli Bearing Technology Co., Ltd | 36.03

Disclosure

Commerce will disclose calculations performed for these preliminary results to the representatives of interested parties that have access to business proprietary information under the Administrative Protective Order within five days of the date of publication of this notice in accordance with 19 CFR 351.224(b).

Public Comment

Case briefs or other written comments may be submitted to the Assistant Secretary for Enforcement and Compliance. Interested parties may submit case briefs no later than 30 days after the date of publication of these preliminary results.⁵ Rebuttals to case briefs may be filed no later than seven days after case briefs are filed, and all rebuttal briefs must be limited to comments raised in the case briefs.⁶ Parties who submit comments are requested to submit with the argument: (1) a statement of the issue; (2) a brief summary of the argument; and (3) a table of authorities.⁷

⁵ See 19 CFR 351.309(c)(1)(ii).

⁶ See 19 CFR 351.309(d); see also Temporary Rule Modifying AD/CVD Service Requirements Due to COVID-19, 85 FR 17006 (March 26, 2020); and Temporary Rule Modifying AD/CVD Service Requirements Due to COVID-19; Extension of Effective Period, 85 FR 41363 (July 10, 2020) (collectively, Temporary Modifications).

⁷ See 19 CFR 351.309(c)(2).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, and a list of the issues to be discussed. Oral presentations at the hearing will be limited to issues raised in the briefs. If a request for a hearing is made, parties will be notified of the time and date for the hearing.⁸

⁸ See 19 CFR 351.310(d).

All submissions must be filed electronically using ACCESS. An electronically filed document must be received successfully in its entirety by 5:00 p.m. Eastern Time on the established due date. Note that Commerce has temporarily modified certain of its requirements for serving documents containing business proprietary information, until further notice.⁹

⁹ See Temporary Modifications.

Final Results of Review

Unless otherwise extended, Commerce intends to issue the final results of this administrative review, which will include the results of its analysis of all issues raised in the case briefs, within 120 days after the date of these preliminary results, pursuant to section 751(a)(3)(A) of the Act.¹⁰

¹⁰ See section 751(a)(3)(A) of the Act; see also 19 CFR 351.213(h).

Verification

As provided in section 782(i)(3) of the Act, Commerce verified the information relied upon in making its preliminary results with respect to Tainai.¹¹ Normally, Commerce verifies information using standard procedures, including an on-site examination of original accounting, financial, and sales documentation. However, due to travel restrictions in response to the global COVID-19 pandemic, Commerce was unable to conduct on-site verification in this review. Accordingly, we issued a questionnaire in lieu of on-site verification. We intend to rely on Tainai's response to our verification questionnaire for the final results.

¹¹ See Tainai's Letter, “Response to Questionnaire issued in Lieu of Verification; Part 1,” dated June 13, 2022; and Tainai's Letter, “Response to Questionnaire issued in Lieu of Verification; Part 2,” dated June 15, 2022.

Assessment Rates

Upon issuance of the final results of the administrative review, Commerce will determine, and U.S. Customs and Border Protection (CBP) shall assess, antidumping duties on all appropriate entries covered by this review.¹² Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

¹² See 19 CFR 351.212(b)(1).

For each individually examined respondent in this review whose weighted-average dumping margin in the final results of review is not zero or de minimis (i.e., less than 0.5 percent), Commerce intends to calculate importer-specific assessment rates for antidumping duties, in accordance with 19 CFR 351.212(b)(1).¹³ Where the respondent reported reliable entered values, Commerce intends to calculate importer-specific ad valorem assessment rates by aggregating the amount of dumping calculated for all U.S. sales to the importer and dividing this amount by the total entered value of the merchandise sold to the importer.¹⁴ Where the respondent did not report entered values, Commerce will calculate importer-specific assessment rates by dividing the amount of dumping for reviewed sales to the importer by the total quantity of those sales. Commerce will calculate an estimated ad valorem importer-specific assessment rate to determine whether the per-unit assessment rate is de minimis; however, Commerce will use the per-unit assessment rate where entered values were not reported.¹⁵ Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.¹⁶ Commerce's “automatic assessment” practice will apply to entries of subject merchandise during the POR produced by Tainai for which it did not know that the merchandise it sold to the intermediary (e.g., a reseller, trading company, or exporter) was destined for the United States. In such instances, we will instruct CBP to liquidate unreviewed entries at the China-wide rate ¹⁷ if there is no rate for the intermediate company(ies) involved in the transaction.¹⁸

¹³ See Antidumping Proceedings: Calculation of the Weighted Average Dumping Margin and Assessment Rate in Certain Antidumping Proceedings: Final Modification, 77 FR 8101 (February 14, 2012) (Final Modification).

¹⁴ See 19 CFR 351.212(b)(1).

¹⁵ Id.

¹⁶ See Final Modification, 77 FR at 8103.

¹⁷ See TRBs from China 2009.

¹⁸ For a full discussion of this practice, see Antidumping and Countervailing Duty Proceedings: Assessment of Antidumping Duties, 68 FR 23954 (May 6, 2003).

For the final results, if we continue to treat the C&U Group; C&U Automotive; C&U Metallurgy; Hebei Xintai; Huangshi C&U; Sichuan C&U; and XTL as part of China-wide entity, we will instruct CBP to apply an ad valorem assessment rate of 92.84 percent, the weighted-average dumping margin previously established for the China-wide entity,¹⁹ to all entries of subject merchandise during the POR that were exported by these companies.

¹⁹ See Tapered Roller Bearings and Parts Thereof, Finished and Unfinished, From the People's Republic of China: Final Results of Antidumping Duty Administrative Review, 74 FR 3987 (January 22, 2009).

For Jingli, the company that is receiving a separate rate and was not individually examined, its assessment rate will be equal to the weighted-average dumping margin determined in the final results of this review.

For CPZ and GGB, the companies for which the administrative review is rescinded, antidumping duties shall be assessed at a rate equal to the cash deposit of estimated antidumping duties required at the time of entry, or withdrawal from warehouse, for consumption, in accordance with 19 CFR 351.212(c)(1)(i).

Cash Deposit Requirements

The following cash deposit requirements will be effective upon publication of the final results of this administrative review for all shipments of the subject merchandise entered, or withdrawn from warehouse, for consumption on or after the publication date, as provided for by section 751(a)(2)(C) of the Act: (1) for the exporters listed above that have a separate rate, the cash deposit rate will be equal to the weighted-average dumping margin established in the final results of this review (except, if the rate is zero or de minimis, then a cash deposit rate of zero will be established for that company); (2) for previously investigated or reviewed Chinese and non-Chinese exporters not listed above that are currently eligible for a separate rate, the cash deposit rate will continue to be equal to the exporter-specific weighted-average dumping margin published for the most recently completed segment of this proceeding; (3) for all Chinese exporters of subject merchandise that have not been found to be entitled to a separate rate, the cash deposit rate will be the cash deposit rate established for the China-wide entity, 92.84 percent; and (4) for all exporters of subject merchandise that are not located in China and that are not eligible for a separate rate, the cash deposit rate will be the rate applicable to the Chinese exporter(s) that supplied that non-Chinese exporter.

These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(l), 751(a)(2)(B), and 777(i)(l) of the Act, and 19 CFR 351.221(b)(4).

Dated: June 30, 2022.
Ryan Majerus,
Deputy Assistant Secretary for Policy and Negotiations.

Appendix

List of Topics Discussed in the Preliminary Decision Memorandum

I. Summary

II. Background

III. Scope of the Order

IV. Discussion of the Methodology

V. Recommendation

[FR Doc. 2022-14563 Filed 7-7-22; 8:45 am]

BILLING CODE 3510-DS-P